DEPARTMENT OF THE INTERIOR

Bureau of Land Management

[BLML_NV_FRN_MO4500177289]

Notice of Intent To Prepare an Environmental Impact Statement for the Proposed Spring Valley Mine Project, Pershing County, Nevada

AGENCY: Bureau of Land Management, Interior.

ACTION: Notice of intent.

SUMMARY: In compliance with the National Environmental Policy Act of 1969, as amended (NEPA), and the Federal Land Policy and Management Act of 1976, as amended, the Bureau of Land Management (BLM) Humboldt River Field Office in Winnemucca, Nevada, intends to prepare an Environmental Impact Statement (EIS) to consider the effects of Solidus LLC's (Solidus) Spring Valley Mine Project (Project) in Pershing County, Nevada. By this notice, the BLM is announcing the beginning of the scoping process to solicit public comments and identify issues.

DATES: This notice initiates the public scoping process for the EIS. The BLM requests that the public submit comments concerning the scope of the analysis, potential alternatives, and identification of relevant information and studies no later than 30 days after the date of publication in the Federal Register. To afford the BLM the opportunity to consider comments in the Draft EIS, please ensure your comments are received prior to the close of the 30-day scoping period or 15 days after the last public meeting, whichever is later. Two in-person public scoping meetings will be held during the public scoping period, the dates of which are to be determined.

ADDRESSES: You may submit comments related to the Spring Valley Mine Project by any of the following methods:

• Website: https://eplanning.blm.gov/eplanning-ui/project/2030469/510.

• Email: blm_nv_wdo_spring_valley_gold_mine@blm.gov.

• Mail: BLM Humboldt River Field Office, Attn: Spring Valley Mine Project, 5100 East Winnemucca Blvd., Winnemucca, Nevada 89445.

Documents pertinent to this proposal may be examined online at https://eplanning.blm.gov/eplanning-ui/home and at the Humboldt River Field Office.

FOR FURTHER INFORMATION CONTACT: Robert Sevon, Project Manager, address: 5100 East Winnemucca Blvd., Winnemucca, Nevada 89445; email: blm_nv_wdo_spring_valley_gold_mine@blm.gov. Contact Mr. Sevon to have your name added to our mailing list. Individuals in the United States who are deaf, deafblind, hard of hearing, or have a speech disability may dial 711 (TTY, TDD, or TeleBraille) to access telecommunications relay services for contacting Mr. Robert Sevon, Project Manager. Individuals outside the United States should use the relay services offered within their country to make international calls to the point-of-contact in the United States.

SUPPLEMENTARY INFORMATION: Based on the submitted proposed plan of operations (Plan), Solidus is proposing to construct, operate, close, and reclaim a new surface mine within Buena Vista Valley along the eastern part of the Humboldt Range, approximately 20 miles northeast of Lovelock, Nevada, and 70 miles southwest of Winnemucca, Nevada.

The proposed Spring Valley Mine Plan boundary would encompass 14,623 acres. The total disturbance associated with the proposed action, including exploration and the new mine operation, would be 6,232 acres, with 4,123 acres on land administered by the BLM and 2,109 acres on private land. The proposed surface mining activities for the Spring Valley Mine would include:

• One open pit and associated haul roads;

• Three waste rock facilities;

• A heap leach facility including a lined pad, process solution ponds, and carbon processing and refining facilities;

• Ancillary facilities including pit dewatering facilities with a rapid infiltration basin system; crushing circuit and an ore stockpile; secondary roads; stormwater controls and diversions; a mine fleet shop; explosives storage; truck shop and refueling area; mine offices and parking areas; laydown yards and storage areas; an aggregate plant; power distribution; a used-materials pad; freshwater distribution; potable water, fire water, and sewage systems; communications facilities; fuel storage and distribution facilities; monitoring wells; water pipelines; wildlife and range fencing; growth media stockpiles; and livestock water developments.

• Exploration activities of up to 50 acres would occur anywhere within the proposed Plan boundary.

Two plans of development (PODs) have been submitted by NV Energy and the Pershing County Road Department (Pershing County) to support the Plan. The Pershing County POD proposes to modify the existing Spring Valley Road with removal of a portion of the road, realignment around the proposed mining operation, and improvement of portions of the existing road. The NV Energy POD proposes to realign portions of two 345 kilovolt (kV) transmission lines and to construct a new 120-kV transmission line. Combined, these two PODs would disturb an additional 164 acres, with 102 acres on land administered by the BLM and 62 acres on private land.

As proposed, the Project would employ a contractor workforce of approximately 130 employees during the initial two-year construction period and approximately 250 full-time employees for the operations period. The Project would operate 24 hours per day, 365 days per year. The total life of the Project would be 29 years, including 2 years of construction, 11 years of mining, 3 additional years of ore processing, and 13 years of reclamation and closure activities. Reclamation of disturbed areas resulting from mining operations would be completed in accordance with BLM and Nevada Division of Environmental Protection regulations. Concurrent reclamation would take place where practicable and safe.

Purpose and Need for the Proposed Action

The BLM's purpose is to respond to Solidus's proposal as described in the Plan and two associated PODs and to analyze the environmental effects associated with the proposed action and alternatives. NEPA mandates that the BLM evaluate the effects of the proposed action and develop alternatives.

The BLM's need for the action is established by the BLM's responsibilities, under section 302 of the Federal Land Policy and Management Act and the BLM Surface Management Regulations at 43 CFR 3809, to respond to a Plan submitted by an applicant to exercise their rights under the General Mining Law of 1872, and to prevent unnecessary or undue degradation of public lands as a result of the actions taken to prospect, explore, assess, develop, and process locatable minerals resources on public lands.

Preliminary Proposed Action and Alternatives

The proposed action consists of the Plan as submitted by Solidus and the associated PODs as submitted by Pershing County and NV Energy. Additional identified alternatives to be considered at this time include the No Action Alternative.

Under the No Action Alternative, the development of the Spring Valley Mine Plan and associated ROWs would not be authorized and Solidus would not construct, operate, and close a new surface mine. Solidus would continue its current authorized Spring Valley Exploration Project.

The BLM welcomes comments on all preliminary alternatives as well as suggestions for additional alternatives.

Summary of Expected Impacts

Primary impacts from the Spring Valley Mine Project that will be analyzed in the EIS include potential impacts to surface and groundwater resources (water quality and quantity); aesthetics (visual and noise); air quality, including greenhouse gases and climate change; cultural resources and historic properties; wildlife resources, including special status species; vegetation and soil resources; livestock grazing; and traffic generation. A summary of potential impacts include:

• Cultural Resource Concerns: Up to 20 National Register of Historic Places-eligible or unevaluated cultural properties could be physically altered, resulting in adverse impacts effect to these cultural sites.

• Wildlife Resources: Potential impacts include habitat change, habitat loss, alterations to water sources, fatalities as a result of collisions with vehicles, displacement due to human activity, and disturbance.

• BLM Sensitive Species: For greater sage-grouse, the proposed action could remove a total of 2,538 acres of mapped habitat, including 1,360 acres of General Habitat Management Areas, and 1,178 acres of Other Habitat Management Areas habitat. For golden eagles, the proposed action could result in the removal of approximately 6,328 acres of foraging habitat. Additionally, two golden eagle territories occur within one mile of the proposed Project disturbance and blasting area.

• Visual Aesthetics: Potential impacts to visual resources include the addition of form, line, texture, and color to the existing landscape.

• Air Quality: Air quality modeling has determined that impacts from the proposed action would not exceed National Ambient Air Quality Standards for PM10, PM2.5, CO, NOX, and SO2. Total facility-wide Hazardous Air Pollutants (HAPs) are estimated to be 0.76 tons per year (tpy), with 0.12 tpy of the highest single HAP, Cobalt. The facility-wide HAP emissions are within U.S. Environmental Protection Agency thresholds. Greenhouse gas emissions from operations, including off-site ore transport, are estimated to be 0.13 million metric tons CO2eq per year. Mercury emissions are estimated to be 0.017 tons per year.

• Water Resources (Surface and Groundwater): Potential impacts to surface and groundwater resources. Potential impacts to seep, spring, and stream flow may occur from proposed dewatering operations. Dewatering operations would also result in a lowering of the local groundwater table, and a permanent pit lake would form post-mining in the open pit. Sedimentation and erosion may also occur due to Project-related disturbance.

• Traffic: Traffic on transportation routes within the area of analysis could potentially increase by up to 117 Annual Average Daily Traffic (AADT) during construction, 107 AADT during operations, and 20 AADT during closure. The addition of Project traffic is not anticipated to lower the level of service of the roadways and intersections.

• Livestock Grazing: The proposed action could result in new surface disturbance of 6,396 acres, which would impact forage utilized by livestock. Approximately 313 Animal Unit Months would be impacted in the Coal Canyon-Poker, Rawhide, and Star Peak Allotments, and two stock water rights would be impacted.

• Vegetation and Soils: Potential impacts on vegetation communities and soil productivity. The proposed action would result in disturbance to soil and removal of vegetation on 6,396 acres.

• Environmental Justice: Communities may benefit from additional high paying jobs; however, the proposed action may reduce available affordable housing.

Anticipated Permits and Authorizations

• Plan of Operations/Record of Decision—Bureau of Land Management

• Plans of Development/Record of Decision—Bureau of Land Management

• Golden Eagle Take Permit—United States Fish and Wildlife Service

• Air Quality Operating Permit—Nevada Division of Environmental Protection (Bureau of Air Pollution Control)

• Explosives Permit—United States Bureau of Alcohol, Tobacco, Firearms, and Explosives

• Industrial Artificial Pond Permit—Nevada Department of Wildlife (Habitat Division)

• Jurisdictional Delineation Report Concurrence—United States Army Corps of Engineers

• Liquefied Petroleum Gas License—Nevada Board of the Regulation of Liquefied Petroleum Gas

• Notification of Commencement of Operations—Mine Safety and Health Administration

• Permit to Appropriate Water—Nevada Division of Water Resources

• Registration Form Submittal—Division of Minerals

• Potable Water System Permit—Nevada Bureau of Safe Drinking Water

• Reclamation Permit and Reclamation Cost Determination—Nevada Division of Environmental Protection (Bureau of Mining Regulation and Reclamation)

• Septic Treatment Permit, Holding Tank Permit, Sewage Disposal System Permit—Nevada Division of Environmental Protection (Bureau of Water Pollution Control)

• Water Pollution Control Permit—Nevada Division of Environmental Protection (Bureau of Mining Regulation and Reclamation)

Schedule for the Decision-Making Process

The BLM will provide additional opportunities for public participation consistent with the NEPA process, including a 45-day comment period on the Draft EIS. The Draft EIS is anticipated to be available for public review Summer 2024 and the Final EIS is anticipated to be released Winter 2025 with a Record of Decision in Winter 2025.

Public Scoping Process

This notice of intent initiates the scoping period. The BLM will be holding two in-person public scoping meetings. The specific date(s) and location(s) of these scoping meetings will be announced in advance through local newspaper publications and the Bureau of Land Management National NEPA Register project page at https://eplanning.blm.gov/eplanning-ui/home.

Lead and Cooperating Agencies

The BLM Humboldt River Field Office is serving as the lead federal agency for preparing this EIS. The United States Fish and Wildlife Service, Nevada Department of Wildlife, the Nevada Department of Conservation and Natural Resources Sagebrush Ecosystem Technical Team, and United States Environmental Protection Agency are cooperating agencies for the Project.

Responsible Official

Sam Burton, District Manager, Winnemucca District Office

John Mitchell, Field Manager, Humboldt Field Office

Nature of Decision To Be Made

The BLM's decision relative to the EIS that will be prepared for the Spring Valley Mine Project will consider the following: (1) approval of the proposed Project Plan and associated PODs to authorize the proposed activities without modifications or additional mitigation measures; (2) approval of the proposed Project Plan and associated PODs with additional mitigation measures that the BLM deems necessary to prevent unnecessary or undue degradation of public lands; (3) approval of the Spring Valley Mine Project Plan of Operations and associated PODs with one of the alternatives analyzed in the EIS; or (4) denial of the proposed Project Plan and associated PODs if the BLM determines that the proposal does not comply with 43 CFR 3809 regulations and 43 CFR 2800 regulations.

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation; and it may be considered at multiple scales, including the landscape scale.

The BLM will utilize and coordinate the NEPA process to help support compliance with applicable procedural requirements under the Endangered Species Act (16 U.S.C. 1536) and section 106 of the National Historic Preservation Act (54 U.S.C. 306108), as provided in 36 CFR 800.2(d)(3), including public involvement requirements of section 106. The information about historic and cultural resources and threatened and endangered species within the area potentially affected by the proposed project will assist the BLM in identifying and evaluating impacts to such resources.

The BLM will consult with Indian Tribal Nations on a government-to-government basis in accordance with Executive Order 13175, BLM Manual section 1780, and other Departmental policies. Tribal concerns, including impacts on Indian trust assets and potential impacts to cultural resources, will be given due consideration. Federal, State, and local agencies, along with Indian Tribal Nations and other stakeholders that may be interested in or affected by the proposed Spring Valley Mine Project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9)

Amber LeLoup,
Acting District Manager, Winnemucca District Office.

[FR Doc. 2024-05702 Filed 3-15-24; 8:45 am]

BILLING CODE 4331-21-P